DEPARTMENT OF TRANSPORTATION

Maritime Administration

[Docket Number MARAD-2015-0086]

Maritime Environmental and Technical Assistance (META) Program Forum

AGENCY: Maritime Administration, Department of Transportation.

ACTION: Notice.

SUMMARY: The Maritime Administration (MARAD), in cooperation with the Maryland Environmental Resource Center, will hold an open forum to solicit individual input to MARAD on the Agency's Maritime Environmental and Technical Assistance (META) Program and key environmental issues facing maritime transportation. Input received will enable the Agency to assess the effectiveness and utility of the Program thus far, and will inform MARAD and Department of Transportation decision making regarding possible future research, development and demonstration projects.

DATES: The forum will be held on Wednesday, July 22, 2015, from 9:00 a.m. to 1:00 p.m. EDT.

ADDRESSES: The event will be held at the Conference Center of the Maritime Institute of Technology and Graduate Studies (MITAGS), 692 Maritime Blvd., Linthicum Heights, Maryland 21090 (Telephone 866-656-5568). The facility has overnight accommodations. For those interested in reserving MITAGS accommodations please feel free to call 410-859-5700.

FOR FURTHER INFORMATION CONTACT: You may contact Daniel Yuska, Office of Environment, U.S. Department of Transportation, Maritime Administration, 1200 New Jersey Avenue SE., Washington, DC 20590. Telephone (202) 366-0714. You may send electronic mail to Daniel.Yuska@dot.gov.

For access to the docket, go to http://www.regulations.gov at any time or to Room W12-140 of the Department of Transportation, 1200 New Jersey Avenue SE., Washington, DC 20590, between 9:00 a.m. and 5:00 p.m., Monday through Friday, except Federal Holidays. To view the docket electronically, type the docket number “MARAD-2015-0086” in the “SEARCH” box and click “Search.” Click and Open Docket Folder on the line associated with this forum.

SUPPLEMENTARY INFORMATION: The META program seeks to foster collaborative efforts among Federal agencies, academia, industry and the public to address critical marine transportation environmental issues. Among the areas of current focus are aquatic invasive species, ballast water and underwater hull growth, port and vessel air emissions, and alternative fuels and energy technologies. Through META, MARAD supports research, development and demonstration of innovative technologies for practical applications to balance freight, passenger and environmental concerns with sustainable solutions. This support includes financial support for research and development activities, and fostering the exchange of information and best practices.

MARAD is holding this forum to provide information on the META concept, gather public input on identifying the key environmental issues on which the META program should focus its activities, and on how MARAD might best structure the program for the future. Specific topics of discussion will include how MARAD might be able to better focus requests for proposals, and how to address various levels of technology readiness.

During the forum, MARAD representatives will explain the META program and discuss current areas of focus and projects, followed by small group discussions. Minutes will be kept of the discussion and posted by MARAD.

MARAD will release further details on this public forum, including times and agenda, on its Web page at http://marad.dot.gov and on the DOT docket as they become available.

Privacy Act Statement

All input received at the forum will be recorded and attributable to the individual commenter and where appropriate on behalf of an association, business, labor union, etc. This information will be placed on the DOT public docket. You may review DOT's complete Privacy Act Statement in the Federal Register published on April 11, 2000 (65 FR 19476, 04/11/2011) or at http://www.dot.gov/privacy.html.

Authority: 49 CFR 1.93.

* * * * *

Dated: June 25, 2015.
By Order of the Maritime Administrator.
T. Mitchell Hudson, Jr.,
Secretary, Maritime Administration.

[FR Doc. 2015-16180 Filed 6-30-15; 8:45 am]

BILLING CODE 4910-81-P